DEPARTMENT OF AGRICULTURE

Submission for OMB Review; Comment Request

February 6, 2018.

The Department of Agriculture will submit the following information collection requirement(s) to OMB for review and clearance under the Paperwork Reduction Act of 1995, Public Law 104-13 on or after the date of publication of this notice. Comments are requested regarding: (1) Whether the collection of information is necessary for the proper performance of the functions of the agency, including whether the information will have practical utility; (2) the accuracy of the agency's estimate of burden including the validity of the methodology and assumptions used; (3) ways to enhance the quality, utility and clarity of the information to be collected; and (4) ways to minimize the burden of the collection of information on those who are to respond, including through the use of appropriate automated, electronic, mechanical, or other technological collection techniques or other forms of information technology should be addressed to: Desk Officer for Agriculture, Office of Information and Regulatory Affairs, Office of Management and Budget (OMB), New Executive Office Building, Washington, DC; New Executive Office Building, 725 17th Street NW, Washington, DC 20503. Commenters are encouraged to submit their comments to OMB via email to: OIRA_Submission@omb.eop.gov or fax (202) 395-5806 and to Departmental Clearance Office, USDA, OCIO, Mail Stop 7602, Washington, DC 20250-7602.

Comments regarding these information collections are best assured of having their full effect if received by March 12, 2018. Copies of the submission(s) may be obtained by calling (202) 720-8681.

An agency may not conduct or sponsor a collection of information unless the collection of information displays a currently valid OMB control number and the agency informs potential persons who are to respond to the collection of information that such persons are not required to respond to the collection of information unless it displays a currently valid OMB control number.

30-Day Federal Register Notice

Agricultural Marketing Service

Title: Beef Research and Promotion: Producer Request for State to Retain Checkoff Assessment Form.

OMB Control Number: 0581-0302.

Summary of Collection: Congress has delegated to the U.S. Department of Agriculture (USDA) the responsibility for implementing and overseeing the Beef Research and Promotion Program. The enabling legislation for the Beef Research and Promotion Program is the Beef Promotion and Research Act of 1985 (Act) (7 U.S.C. 2901-2911).

On June 21, 2017, a U.S. District Court Judge in Montana issued a preliminary injunction enjoining USDA from continuing to allow MBC to use the assessments that it is qualified to collect under the Beef Checkoff Program to fund advertising campaigns, unless a cattle producer provides prior affirmative consent authorizing MBC to retain a portion of the cattle producer's assessment. As a result of this preliminary injunction, MBC must begin forwarding all Beef Checkoff Program funds directly to the Cattlemen's Beef Promotion and Research Board (Beef Board), the entity that administers the National Beef Checkoff Program, absent proof that a producer has provided advance affirmative consent authorizing MBC to retain a portion of that producer's assessment.

The Beef Checkoff Program carries out projects relating to research, consumer information, advertising, sales promotion, producer information, market development, and product research to assist, improve, or promote the marketing, distribution, and utilization of beef. The Beef Checkoff Program is directed by a national industry board whose members are appointed by the Secretary of Agriculture, who also approves the Beef Boards' budgets, plans, and projects. The latter responsibility has been delegated to AMS. The funding for the Beef Checkoff Program is industry-specific, with assessments generated by producers and importers each time cattle are sold.

Need and Use of the Information: The Beef Promotion and Research Order (Order) and regulations governing the Beef Research and Promotion Program authorize the Qualified State Beef Councils (QSBCs) to collect and submit certain information as required. The information will be used by some beef producers in Montana (and any other State subject to a similar court order) who seek to have a portion of the Federal assessments remain with MBC (and any other State subject to a similar court order) instead of the full assessment collected being forwarded to the Beef Board. QSBCs administer the State beef program.

AMS developed the LPS-2 Producer Request to Retain Beef Checkoff Assessments form so that producers have an option to allow MBC (and any other State subject to a similar court order) to retain a portion of the assessment collected instead of forwarding the full assessment collected to the Beef Board. The LPS-2 form gives the producer the option to (1) submit the form once a year or (2) submit the form each time cattle are sold.

Without the producer's permission for the State to retain a portion of the Federal assessment under the Beef Checkoff Program, MBC will likely have insufficient funds to pay for ongoing projects, contracts, staff salaries, and other administrative functions and, therefore, could be forced to cease operations and potentially leave current staff unemployed.

Description of Respondents: Business or other for-profit.

Number of Respondents: 100.

Frequency of Responses: Reporting: On occasion; Annually.

Total Burden Hours: 8.

Ruth Brown,
Departmental Information Collection Clearance Officer.

[FR Doc. 2018-02585 Filed 2-8-18; 8:45 am]

BILLING CODE 3410-02-P